FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent to Terminate Receiverships
Fund | Receivership name | City | State | Date of appointment of receiver
10061 | BankUnited, FSB | Coral Gables | FL | 05/21/2009
10109 | Bradford Bank | Baltimore | MD | 08/28/2009
10110 | Affinity Bank | Ventura | CA | 08/28/2009
10116 | Vantus Bank | Sioux City | IA | 09/04/2009
10126 | San Joaquin Bank | Bakersfield | CA | 10/16/2009
10128 | First Dupage Bank | Westmont | IL | 10/23/2009
10143 | Prosperan Bank | Oakdale | MN | 11/06/2009
10148 | Century Bank, FSB | Sarasota | FL | 11/13/2009
10149 | Orion Bank | Naples | FL | 11/13/2009
10156 | Greater Atlantic Bank | Reston | VA | 12/04/2009
10163 | New South Federal Savings Bank | Irondale | AL | 12/18/2009
10168 | Horizon Bank | Bellingham | WA | 01/08/2010
10423 | Tennessee Commerce Bank | Franklin | TN | 01/27/2012
10531 | The Enloe State Bank | Cooper | TX | 05/31/2019

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Department 34.6, 1601 Bryan Street, Dallas, TX 75201.

No comments concerning the termination of the above-mentioned receiverships will be considered which are not sent within this time frame.

(Authority: 12 U.S.C. 1819)

Federal Deposit Insurance Corporation.
Dated at Washington, DC, on September 14, 2021.
James P. Sheesley,
Assistant Executive Secretary.

[FR Doc. 2021-20223 Filed 9-17-21; 8:45 am]

BILLING CODE 6714-01-P